DEPARTMENT OF EDUCATION

National Assessment Governing Board Meeting

AGENCY: National Assessment Governing Board, U.S. Department of Education.

ACTION: Notice of open teleconference meeting.

SUMMARY: This notice sets forth the agenda for a teleconference meeting of the National Assessment Governing Board (hereafter referred to as Governing Board) to take action on the Governing Board's response to recommendations made by the National Academy of Sciences on an evaluation of the National Assessment of Educational Progress achievement levels. This notice provides information to members of the public who may be interested in listening to the teleconference or providing written comments on the report recommendations. Notice of this meeting is required under section 10(a)(2) of the Federal Advisory Committee Act (FACA). Notice of this meeting is required by section 10(a)(2) of the Federal Advisory Committee Act (FACA) (Pub. L. 92-463; as amended, 5 U.S.C., App. 2) and is intended to notify the public of the meeting. This notice is being published less than 15 calendar days prior to the meeting in order to ensure there is a quorum of NAGB members at the meeting to make recommendations related to the National Academy of Sciences report.

DATES: The conference call will be held on Monday, December 19, 2016 from 6:00 p.m. to 7:00 p.m. EST.

FOR FURTHER INFORMATION CONTACT: Munira Mwalimu, Executive Officer/Designated Federal Official of the Governing Board, 800 North Capitol Street NW., Suite 825, Washington, DC 20002, telephone: (202) 357-6938, fax: (202) 357-6945.

SUPPLEMENTARY INFORMATION: Statutory Authority and Function: The Governing Board is established under the National Assessment of Educational Progress Authorization Act, Title III of Public Law 107-279. Information on the Governing Board and its work can be found at www.nagb.gov.

The Governing Board is established to formulate policy for the National Assessment of Educational Progress (NAEP). The Governing Board's congressionally mandated responsibilities include developing appropriate student achievement levels for each grade and subject tested. Based on recommendations from policymakers, educators, and members of the general public, the Governing Board sets specific achievement levels for each subject area and grade assessed on The Nation's Report Card. Achievement levels are performance standards that show what students should know and be able to do. Results are reported as percentages of students performing at or above the Basic and Proficient levels, and at the Advanced level. Additional information on the achievement levels can be found at https://nagb.gov/publications/achievement.html.

The National Assessment Governing Board's standing committees, the Executive Committee and the Committee on Standards, Design and Methodology (COSDAM) will participate in a conference call on Monday, December 19th from 6:00-7:00 p.m. EST. The purpose of the call is to discuss and take action on the Governing Board's response to the recommendations of the November 2016 evaluation of NAEP achievement levels conducted by the National Academies of Sciences. The report titled Evaluation of the Achievement Levels for Mathematics and Reading on the National Assessment of Educational Progress is available at the following URL: https://www.nap.edu/catalog/23409/evaluation-of-the-achievement-levels-for-mathematics-and-reading-on-the-national-assessment-of-educational-progress.

The National Assessment Governing Board response will be sent to the Secretary of Education, the Committee on Education and the Workforce of the House of Representatives, and the Committee on Health, Education, Labor, and Pensions of the Senate following the teleconference.

The public is invited to call in “listen only mode” to the meeting by using the conference toll free number in the United States at 1-866-766-1003, participant code 7932547. Callers can expect to incur charges for calls they initiate over wireless lines; the National Assessment Governing Board will not refund any incurred charges. Callers will not incur charges for calls they initiate over landline connections to the toll free phone number.

Members of the public will have an opportunity to provide written feedback in advance of the call at nagb@ed.gov, with the email subject header titled Teleconference Feedback due to limited time availability for the call. Comments must be received no later than 12:00 p.m. ET on December 19, 2016.

Authority: Pub. L. 107-279, Title III—National Assessment of Educational Progress section 301.

Dated: December 13, 2016.
William J. Bushaw,
Executive Director.

[FR Doc. 2016-30328 Filed 12-15-16; 8:45 am]

BILLING CODE 4000-01-P